DEPARTMENT OF THE INTERIOR

Bureau of Indian Affairs

Bureau of Land Management

[BLM_NM_FRN_MO4500178179]

Termination of Preparation of the Environmental Impact Statement for the Farmington Mancos-Gallup Resource Management Plan Amendment, New Mexico

AGENCY: Bureau of Land Management; Bureau of Indian Affairs, Interior.

ACTION: Notice of termination.

SUMMARY: The Bureau of Land Management (BLM) and the Bureau of Indian Affairs (BIA) are terminating the preparation of an environmental impact statement (EIS) for the Farmington Mancos-Gallup Resource Management Plan (RMP) Amendment.

DATES: The EIS development process for the Farmington Mancos-Gallup RMP Amendment is terminated immediately.

FOR FURTHER INFORMATION CONTACT: BLM Farmington Field Office Project Manager Sarah Scott, sscott@blm.gov, 505-564-7689 or BIA Navajo Region Office Regional Archeologist/Project Manager Robert Begay, robert.begay1@bia.gov, 505-863-8515. Individuals in the United States who are deaf, deafblind, hard of hearing, or have a speech disability may dial 711 (TTY, TDD, or TeleBraille) to access telecommunications relay services for contacting Ms. Scott or Mr. Begay. Individuals outside the United States should use the relay services offered within their country to make international calls to the point-of-contact in the United States.

SUPPLEMENTARY INFORMATION: Pursuant to the National Environmental Policy Act of 1969, as implemented by the Council on Environmental Quality regulations, the BLM announced its intent to prepare an RMP Amendment and associated EIS on February 25, 2014 (79 FR 10548). On October 21, 2016, the BLM and the BIA published an amended Notice of Intent in the Federal Register announcing the addition of the BIA as a joint/co-lead agency for the EIS (81 FR 72819). The purpose of the EIS was to analyze the impacts of additional oil and gas development within the San Juan Basin in northwestern New Mexico, as well as decisions related to lands and realty, BLM-managed lands with wilderness characteristics, and vegetation management. The EIS was also to evaluate alternatives and issues related to the BIA's authority over mineral leasing and associated activity decisions on Navajo Tribal Trust Lands and Navajo Indian allotments. The Notice of Availability for the Draft EIS published in the Federal Register on February 28, 2020 (85 FR 12012). The bureaus distributed the Draft EIS to various Federal, State, and local agencies, elected officials, special interest groups, interested individuals, and the media. Due to the COVID-19 pandemic and restrictions placed on in-person meetings, virtual public hearings were held on May 14, 15, 16, and 18, 2020, as well as on August 26, 27, 28, and 29, 2020. Since the initial publication of the Notices of Intent in 2014 and 2016, and the publication of the draft RMP Amendment and EIS in 2020, there have been many changes relevant to the plan amendment and associated EIS, such as a change in the development trends in the San Juan Basin; the withdrawal of 336,404 acres from mineral entry around the Chaco Culture National Historical Park; the preparation of BIA-funded ethnographic studies for the region; the establishment of the Honoring Chaco Initiative; and an increase in outdoor recreation in the region. Given these changes and the extent of revisions necessary to address these changes in the current EIS process, the agencies determined it is impractical to continue the plan amendment effort as currently structured. Therefore, the BLM and BIA hereby terminate preparation of the EIS for the RMP Amendment.

(Authority: 40 CFR 1506.6, 40 CFR 1506.10)

Melanie G. Barnes,
BLM New Mexico State Director,
Deborah S. Shirley,
Acting BIA Navajo Region Director.

[FR Doc. 2024-15278 Filed 7-11-24; 8:45 am]

BILLING CODE 4331-23-P